DEPARTMENT OF COMMERCE

National Oceanic and Atmospheric Administration

[I.D. 022602D]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Capacity Committee and Monkfish Oversight Committee in March, 2002, to consider actions affecting New England fisheries in the exclusive economic zone (EEZ). Recommendations from these groups will be brought to the full Council for formal consideration and action, if appropriate.

DATES: The meetings will be held on March 18, 2002 and March 21, 2002. See SUPPLEMENTARY INFORMATION for specific dates and times.

ADDRESSES: The meetings will be held at the Mystic Hilton Hotel, 20 Coogan Boulevard, Mystic, CT 06355; telephone: (860) 572-0731.

Council address: New England Fishery Management Council, 50 Water Street, Mill 2, Newburyport, MA 01950.

FOR FURTHER INFORMATION CONTACT: Paul J. Howard, Executive Director, New England Fishery Management Council; (978) 465-0492.

SUPPLEMENTARY INFORMATION:

Meeting Dates and Agendas

Monday, March 18, 2002, 9:30 a.m.—Capacity Oversight Committee Meeting.

The Committee will finalize the list of capacity reduction proposals to be forwarded to the Council for further consideration and possible inclusion in Amendment 13 to the Northeast Multispecies Fishery Management Plan. Based on the Council direction, the range of proposals will provide a basis for reducing latent or unused days-at-sea (DAS) and capacity to further the biological goals of Amendment 13; under consideration include Alternatives that reduce the amount of allocated DAS from approximately 150,000 to between 67,000 and 86,000 allocated DAS.

Thursday, March 21, 2002, 8:30 a.m.—Monkfish Oversight Committee Meeting.

The Committee will review Council comments on Amendment 2 Goals and Objectives and make appropriate adjustments. The Committee will review information provided by the Plan Development Team and/or Councils' staffs and outline management strategies for further development.

Although non-emergency issues not contained in this agenda may come before this group for discussion, those issues may not be the subject of formal action during this meeting. Action will be restricted to those issues specifically listed in this notice and any issues arising after publication of this notice that require emergency action under section 305 (c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: February 27, 2002.
Richard W. Surdi,
Acting Director, Office of Sustainable Fisheries, National Marine Fisheries Service.

[FR Doc. 02-5100 Filed 3-1-02; 8:45 am]

BILLING CODE 3510-22-S